DEPARTMENT OF DEFENSE

Office of the Secretary

Defense Science Board

ACTION: Cancellation of Advisory Committee Meeting.

SUMMARY: The Defense Science Board (DSB) Task Force on Systems Technology for the Future U.S. Strategic Posture meeting scheduled for December 14-15, 2000, was not held.

Dated: January 12, 2001.
L.M. Bynum,
Alternate OSD Federal Register Liaison Officer, Department of Defense.

[FR Doc. 01-1717 Filed 1-19-01; 8:45 am]

BILLING CODE 5001-10-M